DEPARTMENT OF THE TREASURY

Internal Revenue Service

26 CFR Part 1

[REG-118761-09]

RIN 1545-BI92

Controlled Groups; Deferral of Losses; Correction

AGENCY: Internal Revenue Service (IRS), Treasury.

ACTION: Correction to notice of proposed rulemaking.

SUMMARY: This document contains corrections to notice of proposed rulemaking (REG-118761-09) that was published in the Federal Register on Thursday, April 21, 2011 (76 FR 22336). The proposed regulations provide guidance concerning the time for taking into account deferred losses on the sale or exchange of property between members of a controlled group.

FOR FURTHER INFORMATION CONTACT: Bruce A. Decker at (202) 622-7790 (not a toll-free number).

SUPPLEMENTARY INFORMATION:

Background

The notice of proposed rulemaking that is the subject of this document is under section 267 of the Internal Revenue Code.

Need for Correction

As published, the notice of proposed rulemaking (REG-118761-09) contains errors that are misleading and are in need of clarification.

Correction to Publication

Accordingly, the notice of proposed rulemaking which is the subject of FR Doc. 2011-9606 is corrected as follows:

On page 22336, in the preamble, column 1, under the paragraph heading “Background”, line 2, the language “concerning the Federal income tax,” is corrected to read “concerning the federal income tax”.

On page 22337, in the preamble, column 1, under the paragraph heading “Background”, line 14 from the top of the page, the language “entirety. Accordingly, the IRS and the” is corrected to read “entirety. Accordingly, the IRS and”

LaNita VanDyke,
Branch Chief, Publications and Regulations Branch, Legal Processing Division, Associate Chief Counsel (Procedure and Administration).

[FR Doc. 2011-12788 Filed 5-23-11; 8:45 am]

BILLING CODE 4830-01-P